NUCLEAR REGULATORY COMMISSION

Advisory Committee on Nuclear Waste; Notice of Meeting

The Advisory Committee on Nuclear Waste (ACNW) will hold its 177th meeting on March 20-22, 2007, Room T-2B3, 11545 Rockville Pike, Rockville, Maryland.

The schedule for this meeting is as follows:

Tuesday, March 20, 2007

11 a.m.-11:05 a.m.: Opening Remarks by the ACNW Chairman (Open)—The ACNW Chairman will make opening remarks regarding the conduct of today's sessions.

11:05 a.m.-12 p.m.: Savannah River National Laboratory (SRNL) Workshop on Cementitious Materials Used in Waste Determination Activities (Open)—Professor Barry Scheetz from the Pennsylvania State University will brief the Committee on a SRNL-sponsored workshop that examined the use of cementitious materials in radioactive waste management applications. This workshop was held on December 12-14, 2006, in Aiken, South Carolina.

1 p.m.-2:30 p.m.: Stakeholder Views on Moderator Exclusion (Open)—Representatives from the Nuclear Energy Institute (NEI), the Electric Power Research Institute (EPRI), and H322 Consulting LLC will brief the Committee on their views on the moderator exclusion issue in transportation canisters for spent nuclear fuel.

2:45 p.m.-3:30 p.m.: Idaho National Laboratory (INL) / U.S. Department of Energy (DOE) Views on Moderator Exclusion (Open)—An INL/DOE representative will brief the Committee on an upcoming license application requesting NRC approval for the DOE Standardized Spent Nuclear Fuel Canister relying on the use of moderator exclusion.

3:30 p.m.-4:30 p.m.: Round Table Discussion on Moderator Exclusion (Open)—ACNW Member Ruth Weiner will lead a follow up discussion with the previous presenters and representatives from NRC's Office of Nuclear Materials Safety and Safeguards (NMSS), Division of Spent Fuel Storage and Transportation (SFST), on the technical and regulatory issues surrounding the moderator exclusion issue.

4:30 p.m.-5:30 p.m.: ACNW Meeting with NRC Commissioner Gregory B. Jaczko (Open)—Commissioner Jaczko will address the Committee on current topics and issues of common interest.

Wednesday, March 21, 2007

8:30 a.m.-8:45 a.m.: Opening Remarks by the ACNW Chairman (Open)—The ACNW Chairman will make opening remarks regarding the conduct of today's sessions.

8:35 a.m.-10 a.m.: Update by the U.S. Department of Energy (DOE) on the Proposed Yucca Mountain Repository Design (Open)—A Department representative will update the Committee on the status of DOE design activities for surface facilities for the proposed geologic repository. Briefing is also expected to examine repository design options for spent nuclear fuel handling in light of the TAD (transportation-aging-disposal) canister decision-making.

10:15 a.m.-12 p.m.: ACNW Action Plan for Fiscal Years 2007 and 2008 (Open)—The Committee will discuss and approve its Action Plan for Fiscal Years 2007 and 2008.

1 p.m.-2 p.m.: Briefing on Shieldalloy, New Jersey, Site Decommissioning Plan (Open)—Staff from the Office of Federal and State Materials and Environmental Management Programs (FSME) will brief the Committee on the Decommissioning Plan for the Shieldalloy Metallurgical Corporation's complex decommissioning site.

2 p.m.-3 p.m.: Updated EPRI Response on Potential Igneous Event at Yucca Mountain (Open)—NRC staff recently reviewed reports prepared by EPRI on magma interactions with the proposed Yucca Mountain repository. EPRI representatives will provide the Committee with their comments on the staff's review.

3:15 p.m.-5:30 p.m.: Miscellaneous (Open)—The Committee will discuss matters related to the conduct of ACNW activities and specific issues that were not completed during previous meetings, as time and availability of information permit. Discussions may include content of future letters and scope of future Committee Meetings.

Thursday, March 22, 2007

8:30 a.m.-8:35 a.m.: Opening Remarks by the ACNW Chairman (Open)—The Chairman will make opening remarks regarding the conduct of today's sessions.

8:35 a.m.-11:30 a.m.: ACNW White Paper on Volcanism (Open)—Followup discussion from February working group meeting; general review of observations, revisions, and summary conclusions for the White Paper on Igneous Activity at Yucca Mountain.

12:30 p.m.-5:30 p.m.: Miscellaneous (Open)—The Committee will discuss matters related to the conduct of ACNW activities and specific issues that were not completed during previous meetings, as time and availability of information permit. Discussions may include the ACNW Action Plan as well as future Committee Meetings.

Procedures for the conduct of and participation in ACNW meetings were published in the Federal Register on October 12, 2006 (71 FR 60196). In accordance with these procedures, oral or written statements may be presented by members of the public. Electronic recordings will be permitted only during those portions of the meeting that are open to the public. Persons desiring to make oral statements should notify Mr. Antonio F. Dias (Telephone 301-415-6805), between 8:15 a.m. and 5 p.m. ET, as far in advance as practicable so that appropriate arrangements can be made to schedule the necessary time during the meeting for such statements. Use of still, motion picture, and television cameras during this meeting will be limited to selected portions of the meeting as determined by the ACNW Chairman. Informatition regarding the time to be set aside for taking pictures may be obtained by contacting the ACNW office prior to the meeting. In view of the possibility that the schedule for ACNW meetings may be adjusted by the Chairman as necessary to facilitate the conduct of the meeting, persons planning to attend should notify Mr. Dias as to their particular needs.

Further information regarding topics to be discussed, whether the meeting has been canceled or rescheduled, the Chairman's ruling on requests for the opportunity to present oral statements and the time allotted, therefore can be obtained by contacting Mr. Dias.

ACNW meeting agenda, meeting transcripts, and letter reports are available through the NRC Public Document Room (PDR) at pdr@nrc.gov, or by calling the PDR at 1-800-397-4209, or from the Publicly Available Records System component of NRC's document system (ADAMS) which is accessible from the NRC Web site at http://www.nrc.gov/reading-rm/adams.html or http://www.nrc.gov/reading-rm/doc-collections/ (ACRS & ACNW Mtg schedules/agendas).

Video Teleconferencing service is available for observing open sessions of ACNW meetings. Those wishing to use this service for observing ACNW meetings should contact Mr. Theron Brown, ACNW Audiovisual Technician (301-415-8066), between 7:30 a.m. and 3:45 p.m. ET, at least 10 days before the meeting to ensure the availability of this service. Individuals or organizations requesting this service will be responsible for telephone line charges and for providing the equipment and facilities that they use to establish the video teleconferencing link. The availability of video teleconferencing services is not guaranteed.

Dated: February 28, 2007.
Andrew L. Bates,
Advisory Committee Management Officer.

[FR Doc. E7-3863 Filed 3-5-07; 8:45 am]

BILLING CODE 7590-01-P